ENVIRONMENTAL PROTECTION AGENCY

40 CFR Part 721

[EPA-HQ-OPPT-2007-0490; FRL-9919-77]

RIN 2070-AJ96

Certain Nonylphenols and Nonylphenol Ethoxylates; Significant New Use Rule; Extension of Comment Period

AGENCY: Environmental Protection Agency (EPA).

ACTION: Proposed rule; extension of comment period.

SUMMARY: EPA issued a proposed rule in the Federal Register of October 1, 2014, concerning 15 related chemical substances commonly known as nonylphenols (NP) and nonylphenol ethoxylates (NPE). For 13 NPs and NPEs, EPA proposed to designate any use as a “significant new use,” and for 2 additional NPs, EPA proposed that any use other than use as an intermediate or use as an epoxy cure catalyst would constitute a “significant new use.” This document extends the comment period for 45 days, from December 1, 2014, to January 15, 2015. The comment period is being extended because EPA received comments contending that the proposed NP/NPE Significant New Use Rule (SNUR) contains many chemicals that need to be analyzed, there are many documents in the docket that need to be reviewed, the rule involves some companies correcting how they identify chemicals, and companies need more time to determine whether they use the chemicals for purposes other than what EPA has identified. Extending the comment period will allow companies to more accurately assess and communicate to EPA how the chemicals are being used.

DATES: The comment period for the proposed rule published October 1, 2014 (79 FR 59186), is extended. Comments, identified by docket identification (ID) number EPA-HQ-OPPT-2007-0490, must be received on or before January 15, 2015.

ADDRESSES: Follow the detailed instructions provided under ADDRESSES in the Federal Register document of October 1, 2014 (79 FR 59186) (FRL-9912-87).

FOR FURTHER INFORMATION CONTACT: For technical information contact: Jeffrey Taylor, Chemical Control Division (7405M), Office of Pollution Prevention and Toxics, Environmental Protection Agency, 1200 Pennsylvania Ave. NW., Washington, DC 20460-0001; telephone number: (202) 564-8828; email address: taylor.jeffrey@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of October 1, 2014. In that document, EPA proposed a SNUR for 15 related chemical substances commonly known as nonylphenols (NP) and nonylphenol ethoxylates (NPE). For 13 NPs and NPEs, EPA proposed to designate any use as a “significant new use,” and for 2 additional NPs, EPA proposed that any use other than use as an intermediate or use as an epoxy cure catalyst would constitute a “significant new use.” EPA is hereby extending the comment period, which was set to end on December 1, 2014, to January 15, 2015.

To submit comments, or access the docket, please follow the detailed instructions provided under ADDRESSES in the Federal Register document of October 1, 2014. If you have questions, consult the technical person listed under FOR FURTHER INFORMATION CONTACT.

List of Subjects in 40 CFR Part 721

Environmental protection, Chemicals, Hazardous substances, Reporting and recordkeeping requirements.

Dated: November 21, 2014.
Wendy C. Hamnett,
Director, Office of Pollution Prevention and Toxics.

[FR Doc. 2014-28215 Filed 11-26-14; 8:45 am]

BILLING CODE 6560-50-P